ENVIRONMENTAL PROTECTION AGENCY

[EPA-R09—UST-2010-0538; FRL-9205-2]

Agency Information Collection Activities; Proposed Collection; Comment Request; Underground Storage Tank: Information Request Letters, Pacific Southwest Region (Region IX); EPA ICR No. 2405.01, OMB Control No. 2009-NEW

AGENCY: Environmental Protection Agency (EPA).

ACTION: Notice.

SUMMARY: In compliance with the Paperwork Reduction Act (PRA) (44 U.S.C. 3501 et seq.), this document announces that EPA's Pacific Southwest Region (Region IX) is planning to submit an Information Collection Request (ICR) to the Office of Management and Budget (OMB). Before submitting the request to OMB, EPA Region IX is soliciting comments on specific aspects of the information collection as described below.

DATES: Comments must be submitted on or before November 23, 2010.

ADDRESSES: Submit your comments, identified by Docket ID No. EPA-R09—UST-2010-0538 by one of the following methods:

• http://www.regulations.gov: Follow the on-line instructions for submitting comments.

• E-mail: thomas.ladonna@epa.gov.

• Fax: (415) 947-3530.

• Mail: LaDonna Thomas, Environmental Protection Agency, Mailcode: WST-8, 75 Hawthorne Street, San Francisco, CA 94105-3901.

• Hand Delivery: Environmental Protection Agency Region IX, 75 Hawthorne Street, San Francisco, CA. Such deliveries are only accepted during the Docket's normal hours of operation, and special arrangements should be made for deliveries of boxed information.

Instructions: Direct your comments to Docket ID No. EPA-R09-UST-2010-0538. EPA's policy is that all comments received will be included in the public docket without change and may be made available online at www.regulations.gov, including any personal information provided, unless the comment includes information claimed to be Confidential Business Information (CBI) or other information whose disclosure is restricted by statute. Do not submit information that you consider to be CBI or otherwise protected through http://www.regulations.gov or e-mail. The www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: LaDonna Thomas, Waste Management Division, WST-8, Environmental Protection Agency, 75 Hawthorne Street, San Francisco, CA 94105-3901; telephone number: (415) 972-3375; fax number: (415) 947-3530; e-mail address: thomas.ladonna@epa.gov.

SUPPLEMENTARY INFORMATION:

How can I access the docket and/or submit comments?

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Docket Facility located at the Environmental Protection Agency Region IX, 75 Hawthorne Street, San Francisco, CA. A complete public portion of the administrative record is available for review at the Docket Facility upon request. The Docket Facility is open from 9 a.m. to 4 p.m., Monday through Thursday, excluding legal holidays, and is located in a secured building. To review docket materials at the Docket facility, it is recommended that the public make an appointment by calling the Docket Facility at (415) 947-4406 during normal business hours. Use www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA Region IX specifically solicits comments and information to enable it to:

(i) Evaluate whether the proposed collection of information is necessary for the proper performance of the functions of the Agency, including whether the information will have practical utility;

(ii) Evaluate the accuracy of the Agency's estimate of the burden of the proposed collection of information, including the validity of the methodology and assumptions use;

(iii) Enhance the quality, utility, and clarity of the information to be collected; and

(iv) Minimize the burden of the collection of information on those who are to respond, including through the use of appropriate automated electronic, mechanical, or other technological collection techniques or other forms of information technology, e.g., permitting the electronic submission of responses. In particular, EPA is requesting comments from very small businesses (those that employ less than 25) on examples of specific additional efforts that EPA Region IX could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date and Federal Register citation.

What information collection activity or ICR does this apply to?

Affected entities: Entities potentially affected by this action are owners and operators of RCRA-regulated underground storage tanks within EPA Region IX, i.e., Arizona, California, Hawaii, Nevada, American Samoa, Guam, the Commonwealth of the Northern Marianas Islands, other U.S. holdings in the Pacific and Indian country (as defined in 18 U.S.C. 1151) that is located within this geographic region or is associated with the Navajo Nation. “Indian Country” is defined in 18 U.S.C. 1151 as:

(a) All land within the limits of any Indian reservation under the jurisdiction of the United States Government, notwithstanding the issuance of any patent, and, including rights-of-way running through the reservation; (b) all dependent Indian communities within the borders of the United States whether within the original or subsequently acquired territory thereof, and whether within or without the limits of a state; and (c) all Indian allotments, the Indian titles to which have not been extinguished, including rights-of-way running through the same.

Under this definition, EPA treats as reservations trust lands validly set aside for the use of a Tribe even if the trust lands have not been formally designated as a reservation.

Indian Country that is associated with the Navajo Nation includes, but is not limited to:

1. Land within the exterior boundaries of the formal Navajo Indian Reservation within Arizona, New Mexico, and Utah, including the three satellite Reservations of Alamo, Canoncito and Ramah, but excluding areas of Indian Country associated with the Hopi Tribe; and

2. Lands in the Eastern Navajo Agency that are held in trust by the United States government for the use of the Navajo Nation or for the benefit of individual members of the Navajo Nation or that are dependent Indian communities.

Title: Underground Storage Tanks: Information Request Letters, Pacific Southwest Region (Region IX).

ICR numbers: EPA ICR No. 2405.01, OMB Control No. 2009-NEW.

ICR Status: This ICR is for a new collection activity. An Agency may not conduct or sponsor, and a person is not required to respond to, a collection of information, unless it displays a currently valid OMB control number. The OMB control numbers for EPA's regulations in title 49 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA has already received approval from OMB for its information collection request, entitled “EPA Information Collection Request Number 1360.08, Underground Storage Tanks: Technical and Financial Requirements, and State Program Approval Procedures.” This approval grants EPA authority to collect information from owners and operators, as specified in 40 CFR Part 280, that may otherwise be subject to the Paperwork Reduction Act, including owner and operator requirements to bring a tank into service, pursuant to 40 CFR 280.22, and owner and operator requirements to notify the implementing agency of any decision to permanently close or make a change-in-service at an UST system, pursuant to 40 CFR 280.71. ICR No. 1360.08, however, does not include the authority for EPA to request that facility owners and operators submit documents or other information to the Agency upon request. EPA Region IX is seeking approval from OMB to request documents or other information from UST owners and operators within the Region. EPA Region IX's Underground Storage Tanks Program Office (R9 USTPO) is planning to undertake an effort to increase the rate of compliance in Region IX. R9 USTPO has direct implementation responsibilities in Indian country and our data have shown a low rate of compliance. While Indian country is our highest priority because of our direct implementation responsibility, EPA has also reviewed data that suggest facilities outside Indian country are also of concern. In FY 08, the average rate of compliance in Region IX Indian country was 36% and, outside of Indian country, the average was 68%. An information request pursuant to RCRA section 9005 directed to UST facility owners and operators in order to determine compliance will help to increase the rate of compliance.

As a result, R9 USTPO would like to send an information request letter in accordance with RCRA Section 9005 and 40 CFR 280.34 annually to approximately 500 UST facilities. This letter will request that the facility owner or operator send to the R9 USTPO the compliance records that they are already required to keep, but have not previously been asked to submit to the Agency. The information request letter authority was codified in 40 CFR 280.34 of the UST regulations and this regulation and other provisions of the UST regulations also contain specific ongoing facility reporting and record keeping obligations. In accordance with 40 CFR 280.34(c), these records should be kept either on-site or must be readily available at an alternative site and, thus, should be easy to locate. The information is routinely reviewed during inspections, but we believe there is non-compliance that warrants additional collection and believe that these requests will encourage owners and operators to maintain regulatory compliance and will allow the R9 USTPO to better ensure compliance with regulatory requirements for those facilities. The R9 USTPO seeks to continue this request for records from facilities indefinitely and would monitor whether our efforts to increase compliance are successful.

Burden Statement: The annual public reporting and recordkeeping burden for this collection of information is estimated to average 5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 500.

Frequency of response: Annual.

Estimated total average number of responses for each respondent: One.

Estimated total annual burden hours: 2,500 hours.

Estimated total annual costs: $29,025. This includes an estimated burden cost of $25,000 and an estimated cost of $4,025 for capital investment or maintenance and operational costs.

What is the next step in the process for this ICR? EPA will consider the comments received and revise the ICR, if appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Authority: RCRA Section 9005 and 40 CFR 280.34.

Dated: August 26, 2010.
Jeff Scott,
Director, Waste Management Division, Region IX.

[FR Doc. 2010-23997 Filed 9-23-10; 8:45 am]

BILLING CODE 6560-50-P